DEPARTMENT OF ENERGY

Federal Energy Regulatory Commission

[Project No. 12796-004]

City of Wadsworth, Ohio; Notice of Teleconference

a. Date and Time of Meeting: Tuesday, September 23, 2014 at 10:00 a.m. (Eastern Daylight Time).

b. FERC Contact: Andy Bernick, Phone: (202) 502-8660, Email: andrew.bernick@ferc.gov.

c. Purpose of Meeting: To discuss the U.S. Fish and Wildlife Service's responses to Commission staff's determinations of effect for federally listed species described in the Draft Environmental Assessment for Hydropower License, for the proposed R.C. Byrd Hydroelectric Project, issued on July 8, 2014.

d. Proposed Agenda:

1. Introduction

2. Bats

3. Freshwater Mussels

4. Summary

e. All local, state, and federal agencies, Indian tribes, and other interested parties are invited to participate by phone. Please call Andy Bernick at (202) 502-8660 by Tuesday, September 16, 2014, to RSVP and to receive specific instructions on how to participate.

Dated: September 3, 2014.
Kimberly D. Bose,
Secretary.

[FR Doc. 2014-21863 Filed 9-12-14; 8:45 am]

BILLING CODE 6717-01-P